DEPARTMENT OF COMMERCE

International Trade Administration

[A-484-803]

Large Diameter Welded Pipe From Greece: Final Results of Antidumping Duty Changed Circumstances Reviews

AGENCY: Enforcement and Compliance, International Trade Administration, Department of Commerce.

SUMMARY: On May 6, 2020, the Department of Commerce (Commerce) published the preliminary results of the changed circumstances review (CCR) of the antidumping duty (AD) order on large diameter welded pipe (welded pipe) from Greece which revoked, in part, this order as it relates to certain specific welded pipe products. Commerce has adopted the scope exclusion language in these final results.

DATES: Applicable June 22, 2020.

FOR FURTHER INFORMATION CONTACT: Brittany Bauer, AD/CVD Operations, Office II, Enforcement and Compliance, International Trade Administration, U.S. Department of Commerce, 1401 Constitution Avenue NW, Washington, DC 20230; telephone: (202) 482-3860.

SUPPLEMENTARY INFORMATION:

Background

On May 2, 2019, Commerce published the AD order on welded pipe from Greece.¹ On May 6, 2020, Commerce published the Preliminary Results,² in which Commerce preliminarily revoked, in part, the Order with respect to certain welded pipe products with specific combinations of grades, diameters, and wall thicknesses. These products have been incorporated into the exclusion language of the scope, below in bold.

¹ See Large Diameter Welded Pipe from Greece: Amended Final Affirmative Antidumping Determination and Antidumping Duty Order, 84 FR 18769 (May 2, 2019) (Order).

² See Large Diameter Welded Pipe from Greece: Preliminary Results of Antidumping Duty Changed Circumstances Review, 85 FR 26924 (May 6, 2020) (Preliminary Results).

Corinth Pipeworks Pipe Industry S.A. (Corinth) placed comments made by the petitioners, representing “substantially all” of the domestic industry,³ in the CCRs of welded pipe from India on the record of this CCR. These comments indicate that the domestic industry does not currently produce the particular welded pipe products subject to this partial revocation request, and the investment needed to do so far exceeds the potential benefit of such investment. In addition, in these same comments, the domestic producers provided an explanation indicating that the commercial reality has changed since the Order was put in place.

³ See Corinth's Letter, “Large Diameter Welded Pipe from Greece: Request for Changed Circumstances Review and Revocation, In Part,” dated January 3, 2020, at Exhibits 2-4. Commerce has interpreted “substantially all” to mean at least 85 percent of the total production of the domestic like product covered by the order. See, e.g., Supercalendered Paper from Canada: Final Results of Changed Circumstances Review and Revocation of Countervailing Duty Order, 83 FR 32268 (July 12, 2018).

Both in the CCRs of welded pipe from India and the Preliminary Results, we found that there was “good cause” to conduct the CCRs less than 24 months after the date of publication of notices of the final determinations in the investigations.⁴ In addition, in the Preliminary Results, we provided all interested parties an opportunity to comment and to request a public hearing regarding our preliminary findings.⁵ No interested party submitted comments.

⁴ See 19 CFR 351.216(c).

⁵ See Preliminary Results, 85 FR at 26926.

Scope of the Order

The merchandise covered by this Order is welded carbon and alloy steel line pipe (other than stainless steel pipe), more than 406.4 mm (16 inches) in nominal outside diameter (large diameter welded line pipe), regardless of wall thickness, length, surface finish, grade, end finish, or stenciling. Large diameter welded pipe may be used to transport oil, gas, slurry, steam, or other fluids, liquids, or gases.

Large diameter welded line pipe is used to transport oil, gas, or natural gas liquids and is normally produced to the American Petroleum Institute (API) specification 5L. Large diameter welded line pipe can be produced to comparable foreign specifications, grades and/or standards or to proprietary specifications, grades and/or standards, or can be non-graded material. All line pipe meeting the physical description set forth above, including any dual- or multiple-certified/stenciled pipe with an API (or comparable) welded line pipe certification/stencil, is covered by the scope of the Order.

Subject merchandise also includes large diameter welded line pipe that has been further processed in a third country, including but not limited to coating, painting, notching, beveling, cutting, punching, welding, or any other processing that would not otherwise remove the merchandise from the scope of the Order if performed in the country of manufacture of the in-scope large diameter welded line pipe.

Excluded from the scope of the Order is structural pipe, which is produced only to American Society for Testing and Materials (ASTM) standards A500, A252, or A53, or other relevant domestic specifications, or comparable foreign specifications, grades and/or standards or to proprietary specifications, grades and/or standards. Also excluded is large diameter welded pipe produced only to specifications of the American Water Works Association (AWWA) for water and sewage pipe. Also excluded is large diameter welded pipe in the following combinations of grades, outside diameters, and wall thicknesses:

• Grade X60, X65, or X70, 18 inches outside diameter, 0.688 inches or greater wall thickness;

• Grade X60, X65, or X70, 20 inches outside diameter, 0.688 inches or greater wall thickness;

• Grade X60, X65, X70, or X80, 22 inches outside diameter, 0.750 inches or greater wall thickness; and

• Grade X60, X65, or X70, 24 inches outside diameter, 0.750 inches or greater wall thickness.

The large diameter welded line pipe that is subject to this Order is currently classifiable in the Harmonized Tariff Schedule of the United States (HTSUS) under subheadings 7305.11.1030, 7305.11.1060, 7305.11.5000, 7305.12.1030, 7305.12.1060, 7305.12.5000, 7305.19.1030, 7305.19.1060, and 7305.19.5000. Merchandise currently classifiable under subheadings 7305.31.4000, 7305.31.6090, 7305.39.1000 and 7305.39.5000 and that otherwise meets the above scope language is also covered. While the HTSUS subheadings are provided for convenience and customs purposes, the written description of the scope of this Order is dispositive.

Final Results of CCR

Section 751(b) authorizes Commerce to modify the scopes of AD and CVD orders only for those orders in which we conduct a CCR.⁶ Further, 19 CFR 351.216(c) states that “good cause” exists when Commerce conducts a CCR within 24 months of the publication of a final determination of an investigation. In the Initiation, Commerce found that “good cause” existed to initiate this CCR.⁷ No parties submitted comments regarding the Preliminary Results. Therefore, for the reasons stated in the Initiation and Preliminary Results, Commerce continues to find that it is appropriate to revoke the Order, in part, in accordance with 19 CFR 351.222(g)(1) with respect to certain welded pipe products with specific combinations of grades, diameters, and wall thicknesses, as reflected in the “Scope of the Order” section of this notice.

⁶ See Carbon and Alloy Steel Wire Rod from the Republic of Korea: Final Results of Antidumping Duty Changed Circumstances Review, 84 FR 13888 (April 8, 2019); see also Certain Steel Nails from the People's Republic of China: Final Results of Antidumping Duty Changed Circumstances Review, 84 FR 49508 (September 20, 2019).

⁷ See Large Diameter Welded Pipe from Greece: Initiation of Antidumping Duty Changed Circumstances Review, 85 FR 10150, 10151 (Initiation).

We will instruct U.S. Customs and Border Protection to terminate the suspension of liquidation for all shipments of the products subject to this changed circumstances review that were entered, or withdrawn from warehouse, for consumption on or after the date of publication of this notice of revocation in the Federal Register. All entries of the revoked products that were suspended on or after the date of publication of this revocation notice will be liquidated without regard to antidumping duties (i.e., refund all cash deposits).

Notification to Interested Parties

We are issuing this determination and publishing these final results and notice in accordance with sections 751(b)(1) and 777(i)(1) and (2) of the Act and 19 CFR 351.216(e), 351.221(b) and (c)(3), and 351.222(g)(1) and (4).

Dated: June 16, 2020.
Jeffrey I. Kessler,
Assistant Secretary for Enforcement and Compliance.

[FR Doc. 2020-13377 Filed 6-19-20; 8:45 am]

BILLING CODE 3510-DS-P